DEPARTMENT OF JUSTICE

Notice of Lodging of Consent Decree Under the Comprehensive Environmental Response, Compensation, and Liability Act

Notice is hereby given that on June 20, 2000, a proposed Consent Decree in United States v. Fleetwood Industries, Inc., et al., Civil Action No. 00-CV-1818, was lodged with the United States District Court for the Eastern District of Pennsylvania.

In this action the United States sought the reimbursement of response costs in connection with the Berks Landfill Superfund Site in Spring Township, Pennsylvania (“the Site”) pursuant to the Comprehensive Environmental Response, Compensation and Liability Act (“CERCLA”), 42 U.S.C. 9601 et seq. The Consent Decree resolves the United States' claims against Hub Fabricating Company and Kachel Motors, Inc. for response costs incurred as a result of the release or threatened release of hazardous substances at the Site. These parties will pay the Untied States $7,760.67.

The Department of Justice will receive for a period of thirty (d) days from the date of this publication comments relating to the Consent Decree. Comments should be addressed to the Assistant Attorney General of the Environment and Natural Resources Division, Department of Justice, P.O. Box 7611, Washington, DC 20044, and should refer to United States v. Fleetwood Industries, Inc., et al., D.J. Ref. 90-11-2-1347.

The Consent Decree may be examined at the Office of the United States Attorney, Eastern District of Pennsylvania, 615 Chestnut Street, Suite 1250, Philadelphia, Pennsylvania 19106, or at the Region 3 Office of the Environmental Protection Agency, 1650 Arch Street, Philadelphia, Pennsylvania 19103. A copy of the Consent Decree may also be obtained by mail by requesting a copy from the Department of Justice Consent Decree Library, P.O. Box 7611, Washington, DC 20044-7611. In requesting a copy, please enclose a check in the amount of $7.25 (29 pages at 25 cents per page reproduction cost) payable to the Consent Decree Library.

Joel M. Gross,
Chief, Environmental Enforcement Section, Environment and Natural Resources Division.

[FR Doc. 00-16585 Filed 6-29-00; 8:45 am]

BILLING CODE 4410-15-M